DEPARTMENT OF ENERGY

Federal Energy Regulatory Commission

[Docket No. AD24-7-000]

Federal and State Current Issues Collaborative; Notice of Meeting and Agenda

As first announced in the Commission's September 17, 2024 Notice in the above-captioned docket,¹ the first public meeting of the Federal and State Current Issues Collaborative (Collaborative) will be held on November 12, 2024, at the Anaheim Marriott in Anaheim, California, from approximately 2:30 p.m. to 5:00 p.m. PST. Commissioners may attend and participate in this meeting. Attached to this Notice is an agenda for the meeting.

¹ Fed. and State Current Issues Collaborative, Notice, Docket No. AD24-7-000 (issued Sept. 17, 2024).

The meeting will be open to the public for listening and observing and on the record. There is no fee for attendance and registration is not required. The public may attend in person or via Webcast.² This conference will be transcribed. Transcripts will be available for a fee from Ace Reporting, 202-347-3700.

² A link to the Webcast will be available here on the day of the event: https://www.ferc.gov/federal-state-current-issues-collaborative.

Commission conferences are accessible under section 508 of the Rehabilitation Act of 1973. For accessibility accommodations, please send an email to accessibility@ferc.gov or call toll free 1-866-208-3372 (voice) or 202-208-8659 (TTY) or send a fax to 202-208-2106 with the required accommodations.

More information about the Collaborative is available here: https://www.ferc.gov/federal-state-current-issues-collaborative. For questions related to the Collaborative, please contact: Rob Thormeyer, 202-502-8694, robert.thormeyer@ferc.gov, Sarah Greenberg, 202-502-6230, sarah.greenberg@ferc.gov, or Robert Cain, 202-898-1350, rcain@naruc.org.

Dated: October 29, 2024.
Debbie-Anne A. Reese,
Secretary.

[FR Doc. 2024-25630 Filed 11-4-24; 8:45 am]

BILLING CODE 6717-01-P